NATIONAL FOUNDATION ON THE ARTS AND HUMANITIES

Proposed Collection, Submission for OMB Review

AGENCY: Institute of Museum and Library Services.

ACTION: Notice.

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the addressee section of this notice.

DATES: Written comments must be submitted to the office listed in the contact section below on or before November 27, 2006.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Karen Motylewski, Evaluation Officer, Institute of Museum and Library Services, 1800 M Street, NW., 9th Floor, Washington, DC. Ms. Motylewski can be reached by telephone: 202-653-4686; fax: 202-653-8625; or e-mail: kmotylewski@imls.gov.

SUPPLEMENTARY INFORMATION: Background: The Institute of Museum and Library Services (IMLS) is an independent Federal grant-making agency authorized by the Museum and Library Services Act, Public Law 104-208. IMLS is charged with promoting the improvement of library and museum services for the benefit of the public. Through grant-making, IMLS seeks to assure that libraries and museums are able to play an active role in cultivating an educated and engaged citizenry. IMLS builds the capacities of libraries and museums by encouraging the highest standards in management, pubic service, and education; leadership in the use of technology; strategic planning for results, and partnerships to create new networks that support lifelong learning and the effective management of assets. According to its strategic plan, IMLS is dedicated to creating and sustaining a nation of learners by helping libraries and museums serve their communities. IMLS believes that libraries and museums are key resources for education in the United States and promote the vision of a learning society in which learning is seen as a community-wide responsibility supported by both formal and informal educational entities.

Current Actions: The Institute of Museum and Library Services and the Corporation for Public Broadcasting (CPB) are partnering under a Memorandum of Understanding to make competitive grants and support capacity-building for community partnerships among museum, library and public broadcasting outlets and other community organizations to meet locally identified community needs in an initiative titled Partnership for a Nation of Learners (PNL). IMLS seeks clearance for the partnership to collect and analyze information related to evaluation of the PNL initiative.

An estimated 3,000 persons will have engaged in one or more the PNL programs. An online survey of participants will be conducted after the final event is completed in June 2006. The survey will give these individuals an opportunity to provide feedback on the effectiveness of the PNL professional development program. The evaluation will yield information on what participants learned through the program, their current partnering activity, and their future interest in and need for learning about partnering. Information gathered will help IMLS and CPB to identify potential areas for improvement in PNL professional development activities, determine the level of need/interest for this resource within the key stakeholder groups, and assess the contribution of the professional development resources to meeting local needs and the IMLS and CPB missions.

Agency: Institute of Museum and Library Services.

Title: Partnership for a Nation of Learners (PNL) Evaluation.

OMB Number: Agency Number: 3137.

Frequency: One time

Affected Public: Personnel of museums, museum organizations, libraries, library organizations, and public broadcasting outlets.

Number of Respondents: 2400 (80% of 3,000).

Estimated Time per Respondent: 10 minutes.

Total Burden Hours: 400.

Total Annualized Capital/Startup Costs: 0.

Total Annual Costs: 0.

FOR FURTHER INFORMATION CONTACT: Comments should be sent to the Office of Information and Regulatory Affairs, Attn.: OMB Desk Officer for Education, Office of Management and Budget, Room 10235, Washington, DC 20503 (202) 395-7316.

Dated: October 13, 2006.
Rebecca Danvers,
Director, Office of Research and Technology.

[FR Doc. E6-17926 Filed 10-25-06; 8:45 am]

BILLING CODE 7036-01-P